DEPARTMENT OF COMMERCE

National Oceanic and Atmospheric Administration

[I.D. 121504G]

Western Pacific Fishery Management Council; Public Meeting

AGENCY: National Marine Fisheries Service (NMFS), National Oceanic and Atmospheric Administration (NOAA), Commerce.

ACTION: Notice of public meeting.

SUMMARY: The Western Pacific Fishery Management Council (Council) will hold a meeting of the Coral Reef Ecosystem Plan Team (CREPT) in Honolulu, HI.

DATES: The CREPT meeting will be held on January 18 and 19, 2005, from 8:30 a.m to 5 p.m. See SUPPLEMENTARY INFORMATION for specific times.

ADDRESSES: The meeting of the CREPT will be held at the Western Pacific Fishery Management Council conference room, 1164 Bishop Street, Suite 1400, Honolulu, HI.

FOR FURTHER INFORMATION CONTACT: Kitty M. Simonds, Executive Director; telephone: (808)522-8220.

SUPPLEMENTARY INFORMATION: The CREPT will meet on January 18 and 19, 2005 to discuss the following agenda items.

January 18, 2004, 8:30 a.m to 5 p.m.

1. Introductions

2. Approval of draft agenda and assignment of rapporteurs

3. Review of the last plan team meeting and actions from the 123rd and 124th Council meetings

4. Northwestern Hawaiian Islands (NWHI) Fisheries Management

5. Development of Western Pacific Fishery Ecosystem Plans

January 19, 2005, 8:30 a.m. to 5 p.m.

6. Coral Reef Ecosystem Fishery Management Plan, Management Unit Species Designations

7. Development of Annual Report for Coral Reef Ecosystem Fisheries of the Western Pacific Region

The order in which agenda items addressed may change. Public comment periods will be provided throughout the agenda. The Plan Team will meet as late as necessary to complete scheduled business.

Although non-emergency issues not contained in this agenda may come before the Plan Team for discussion, those issues may not be the subject of formal action during this meeting. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808)522-8220 (voice) or (808)522-8226 (fax), at least 5 days prior to the meeting date.

Dated: December 17, 2004.
Alan D. Risenhoover,
Acting Director, Office of Sustainable Fisheries, National Marine Fisheries Service.

[FR Doc. E4-3766 Filed 12-21-04; 8:45 am]

BILLING CODE 3510-22-S